DEPARTMENT OF EDUCATION

[Docket No.: ED-2025-SCC-1174]

Agency Information Collection Activities; Comment Request; The Recognition Process for Accrediting Agencies, State Approval Agencies; Evaluation of Foreign Medical, and Foreign Veterinary Accrediting Agencies (e-Recognition)

AGENCY: Office of Postsecondary Education (OPE), Department of Education (ED).

ACTION: Notice.

SUMMARY: In accordance with the Paperwork Reduction Act (PRA) of 1995, the Department is proposing an extension without change of a currently approved information collection request (ICR).

DATES: Interested persons are invited to submit comments on or before February 17, 2026.

ADDRESSES: To access and review all the documents related to the information collection listed in this notice, please use http://www.regulations.gov by searching the Docket ID number ED-2025-SCC-1174. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Office of Postsecondary Education, U.S. Department of Education, 400 Maryland Ave. SW, LBJ, Room 5C173, Washington, DC 20202-1200.

FOR FURTHER INFORMATION CONTACT: For specific questions related to collection activities, please contact Amy Wilson, 202-987-1318.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: The Recognition Process for Accrediting Agencies, State Approval Agencies; Evaluation of Foreign Medical, and Foreign Veterinary Accrediting Agencies (e-Recognition).

OMB Control Number: 1840-0788.

Type of Review: An extension without change of a currently approved ICR.

Respondents/Affected Public: Individuals and Households.

Total Estimated Number of Annual Responses: 16.

Total Estimated Number of Annual Burden Hours: 347,648.

Abstract: The United States (U.S.) Secretary of Education (the Secretary) is required by law to publish a list of nationally recognized accrediting agencies that have been determined to be reliable authorities regarding the quality of education or training offered by the institutions or programs they accredit. The system is the e-Recognition system. In determining whether a specific agency should be recognized, the Secretary evaluates the submission for compliance with the criteria for Recognition contained in regulations. The collection of information is necessary for the Secretary to evaluate compliance with each of the criteria and to monitor the continued compliance with the criteria during any period of recognition granted. The authority for collecting this information is contained in the Higher Education Act of 1965, as amended § 496 (HEA), and implementing regulations at 34 CFR 602. The data is required in order for recognized accrediting agencies to demonstrate compliance with 34 CFR 602. The Secretary will use these criteria in determining whether an accrediting agency is a reliable authority as to the quality of education or training provided by institutions of higher education they accredit. The data is required by State Agencies for the approval of Vocational Education to demonstrate compliance with 34 CFR 603. The Secretary will use these criterial to determine whether a State Agency for the Approval of Vocational Education is a reliable authority as to the quality of education or training provided by the vocational institutions of higher education they accredit. The data is also required in order for State approval Agencies for Nurse Education to demonstrate compliance with the criteria and procedures for recognition of State Agencies for Approval of Nurse Education. The Secretary will use these criteria in determining whether a State agency is a reliable authority as to the quality of training offered by schools of nursing.

Brian Fu,
Program and Management Analyst, Office of the Chief Data Officer, Office of Planning, Evaluation and Policy Development.

[FR Doc. 2025-23358 Filed 12-18-25; 8:45 am]

BILLING CODE 4000-01-P